DEPARTMENT OF THE INTERIOR

Bureau of Land Management

[ID-400-1210-MD-241A]

Notice of Public Meeting, Coeur d'Alene District Resource Advisory Council Meeting; Idaho

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Coeur d'Alene District Resource Advisory Council (RAC) will meet as indicated below.

DATES: December 6, 2006. The meeting will start at 10 a.m. and end no later than 4 p.m. The public comment period will be from 1 p.m. to 1:30 p.m. The meeting will be held at the Idaho Commerce and Labor Career Center office located at 1350 Troy Road in Moscow, Idaho.

FOR FURTHER INFORMATION CONTACT: Stephanie Snook, RAC Coordinator, BLM Coeur d'Alene District, 3815 Schreiber Way, Coeur d'Alene, Idaho 83815 or telephone (208) 769-5004.

SUPPLEMENTARY INFORMATION: The 15-member Council advises the Secretary of the Interior, through the Bureau of Land Management, on a variety of planning and management issues associated with public land management in Idaho. The agenda will include the following topics: Recreation fee proposals and process for reviewing requests, and updates on field office projects including the Resource Management Plans. Additional topics may be added and will be included in local media announcements. More information is available at http://www.blm.gov/rac/id/id_index.htm.

All meetings are open to the public. The public may present written comments to the Council in advance of or at the meeting. Each formal Council meeting will also have time allocated for receiving public comments. Depending on the number of persons wishing to comment and time available, the time for individual oral comments may be limited. Individuals who plan to attend and need special assistance, such as sign language interpretation or other reasonable accommodations, should contact the BLM as provided above.

Dated: October 30, 2006.
Lewis M. Brown,
District Manager.

[FR Doc. E6-18577 Filed 11-2-06; 8:45 am]

BILLING CODE 4310-GG-P